ENVIRONMENTAL PROTECTION AGENCY

40 CFR Part 52

[FRL-6572-6]

Notice of Approval of Prevention of Significant Deterioration (PSD) Permits to Sutter Power Plant, Calpine Corporation (NSR 4-4-4, SAC 98-01), South Point Power Plant, Calpine Corporation (NSR 4-4-4, AZ 98-01), and the La Paloma Power Plant, La Paloma Generating Company (NSR 4-4-4, SJ 98-01)

AGENCY: Environmental Protection Agency (EPA).

ACTION: Notice of final action.

SUMMARY: Notice is hereby given that the EPA issued PSD permits to the following applicants:

(1) The Sutter Power Plant, granting approval to construct two combustion turbine generators with waste heat recovery steam generators producing a total of 500 megawatts. The permit became effective on December 2, 1999 and includes the following emission limits: NOX at 2.5 ppm (maximum 19 lbs/hr, normal operation), CO at 4.0 ppm (maximum 34.3 lbs/hr, normal operation), and PM10 at 11.5 lbs/hr.

(2) The South Point Power Plant granting approval to construct two combustion turbine generators with waste heat recovery steam generators and associated equipment producing a total of 500 megawatts. The permit became effective on May 24, 1999 and includes the following emission limits: NOX at 3.0 ppm (maximum 24 lbs/hr), CO at 10 ppm (maximum 158.3 lbs/hr), and PM10 at a maximum of 22.8 lbs/hr.

(3) The La Paloma Power Plant granting approval to construct four combustion turbine generators with waste heat recovery steam generators and associated equipment producing a total of 1048 megawatts. The permit became effective on July 27, 1999 and includes the following emission limits: NOX at 2.5 ppm (maximum 17.3 lbs/hr), CO at 6 ppm (maximum 25.3 lbs/hr) at loads above 221 megawatts and 10 ppm (maximum 34.1 lbs/hr) at loads at or below 221 megawatts, and SO2 at 89.5 lbs/day for each gas turbine.

DATES: The PSD permits are reviewable under section 307(b)(1) of the Clean Air Act only in the Ninth Circuit Court of Appeals. A petition for review must be filed by June 5, 2000.

FOR FURTHER INFORMATION CONTACT: Copies of the permits are available for public inspection upon request; address request to: Steven Barhite (AIR-3), U.S. Environmental Protection Agency, Region 9, 75 Hawthorne Street, San Francisco, CA 94105, (415) 744-1260.

SUPPLEMENTARY INFORMATION: Best Available Control Technology (BACT) requirements at all three facilities include dry low NOX burners and Selective Catalytic Reduction for the control of NOX emissions, low sulfur fuels for the control of SO2 and PM10 emissions, and good combustion design and operation for the control of PM10, CO, and VOC emissions. In addition, the Sutter and La Paloma facilities will utilize an oxidation catalyst to control CO emissions. Air quality impact modelling was required for NOX, SO2, CO and PM10. Continuous emission monitoring is required for NOX and CO and all three sources are subject to New Source Performance Standards, Subparts A and GG.

Dated: March 24, 2000.
David P. Howekamp,
Director, Air Division, Region 9.

[FR Doc. 00-8537 Filed 4-5-00; 8:45 am]

BILLING CODE 6560-50-P